DEPARTMENT OF HOMELAND SECURITY

Office of the Secretary

Privacy Act of 1974; Retirement of Systems of Records

AGENCY: Privacy Office, DHS.

ACTION: Notice of the retirement of two Privacy Act system of records notices.

SUMMARY: In accordance with the Privacy Act of 1974, the Department of Homeland Security is giving notice that it proposes to retire the following Privacy Act system of records notices, Treasury/CS.001 Acceptable Level of Competence, Negative Determination (66 FR 52984 October 18, 2001) and Treasury/CS.286 Electronic Job Application Processing System (66 FR 52984 October 18, 2001), from its inventory of records systems and rely upon the Government-wide system of records notice issued by the Office of Personnel Management, OPM/GOVT-5 Recruiting, Examining, and Placement Records (71 FR 35351 June 19, 2006) which is written to cover all Federal recruiting, examining, and placement activities.

DATES: These changes will take effect on October 30, 2008.

FOR FURTHER INFORMATION CONTACT: Hugo Teufel III, Chief Privacy Officer, Department of Homeland Security, Washington, DC 20528, by telephone (703) 235-0780 or facsimile (703) 235-0442.

SUPPLEMENTARY INFORMATION: Pursuant to the provisions of the Privacy Act of 1974, 5 U.S.C. 552a, and as part of its ongoing integration and management efforts, the Department of Homeland Security (DHS) is retiring the systems of records notices Treasury/CS. 001 Acceptable Level of Competence, Negative Determination (66 FR 52984 October 18, 2001) and Treasury/CS.286 Electronic Job Application Processing System (66 FR 52984 October 18, 2001), that were issued by Customs Service, Department of the Treasury prior to the creation of the Department of Homeland Security.

DHS will continue to collect and maintain records regarding individuals involved in recruitment, examining and placement activities and will rely upon the existing Federal Government-wide system of records titled OPM/GOVT-5 Recruiting, Examining, and Placement Records, (71 FR 35351 June 19, 2006), which is written to cover all recruiting, examining, and placement activities.

Eliminating these notices will have no adverse impacts on individuals, but will promote the overall streamlining and management of DHS Privacy Act record systems.

Dated: September 24, 2008.
Hugo Teufel III,
Chief Privacy Officer, Department of Homeland Security.

[FR Doc. E8-23005 Filed 9-29-08; 8:45 am]

BILLING CODE 4410-10-P